DEPARTMENT OF ENERGY

Federal Energy Regulatory Commission

[Docket No. EL08-67-000]

Maryland Public Service Commission, Complainant, v. PJM Interconnection, L.L.C., Respondent; Notice of Complaint

June 2, 2008.

Take notice that on May 30, 2008, the Maryland Public Service Commission, the Delaware Public Service Commission, the Pennsylvania Public Utility Commission, the New Jersey Board of Public Utilities, the Public Power Association of New Jersey, the Maryland Office of People's Counsel, the Office of the People's Counsel of the District of Columbia, the Southern Maryland Electric Cooperative, Inc., Blue Ridge Power Agency, Allegheny Electric Cooperative, Inc., Office of the Ohio Consumers' Counsel, New Jersey Department of the Public Advocate, Division of Rate Counsel, the Pennsylvania Office of Consumer Advocate, PJM Industrial Customer Coalition, the American Forest and Paper Association, the Portland Cement Association, the Duquesne Light Company, and the United States Department of Defense and other affected Federal Executive Agencies (collectively, the RPM Buyers) filed a formal complaint against PJM Interconnection L.L.C. (PJM) pursuant to section 206 of the Federal Power Act, 16 U.S.C. 824e, and Rule 206 of the Federal Energy Regulatory Commission's Rules of Practice and Procedure, 18 CFR 835.206. The RPM Buyers allege that the PJM's implementation of the Reliability Pricing Model during the transition period is unjust and unreasonable because it has produced excessive capacity prices, has failed to prevent suppliers from exercising market power, and has not produced benefits commensurate with its costs.

The Maryland Commission certifies that copies of the complaint were served on the contacts for PJM as listed in the Commission's Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of Respondent's answer, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 23, 2008.

Kimberly D. Bose,
Secretary.

[FR Doc. E8-12849 Filed 6-6-08; 8:45 am]

BILLING CODE 6717-01-P